DEPARTMENT OF HEALTH AND HUMAN SERVICES

Food and Drug Administration

21 CFR Part 172

[Docket No. 99F-2533]

Food Additives Permitted for Direct Addition to Food for Human Consumption; Change in Specifications for Gum or Wood Rosin Derivatives in Chewing Gum Base; Correction

AGENCY: Food and Drug Administration, HHS.

ACTION: Final rule; correction.

SUMMARY: The Food and Drug Administration (FDA) is correcting a final rule that appeared in the Federal Register of July 23, 2001 (66 FR 38152). The document amended the food additive regulations in § 172.615 (21 CFR 172.615) to provide for their safe use as plasticizing materials (softeners) in chewing gum base. A word in the specification for glycerol ester of gum rosin was inadvertently misspelled. This document corrects that error.

EFFECTIVE DATE: July 23, 2001.

FOR FURTHER INFORMATION CONTACT: Mary E. LaVecchia, Center for Food Safety and Applied Nutrition (HFS-215), Food and Drug Administration, Washington, DC 20204-0001, 202-418-3072.

SUPPLEMENTARY INFORMATION: In the FR Doc. 01-18221, appearing in the Federal Register of Monday, July 23, 2001, the following correction is made:

§ 172.615 [Corrected]

On page 38153, in § 172.615 Chewing gum base, in paragraph (a), in the table entitled “Plasticizing Materials (Softeners)” in the entry for “Glycerol ester of gum rosin,” the word “striping” is corrected to read “stripping.”

Dated: October 15, 2001.
L. Robert Lake,
Director of Regulations Policy, Center for Food Safety and Applied Nutrition.

[FR Doc. 01-26708 Filed 10-23-01; 8:45 am]

BILLING CODE 4160-01-S